FEDERAL MARITIME COMMISSION

Ocean Transportation Intermediary License Terminations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

License Number: 4107.

Name: A.J. Int'l Cargo, Inc.

Address: 12000 S.W. 45th Street, Miami, FL 33175.

Date Revoked: April 19, 2000.

Reason: Failed to maintain a valid bond.

License Number: 14635N.

Name: Aboard Cargo Service, Inc.

Address: 8565 N.W. 29 Street, Miami, FL 33126.

Date Revoked: May 17, 2000.

Reason: Failed to maintain a valid surety bond.

License Number: 8930N.

Name: Amber Marine International, Ltd.

Address: 1554 Carmen Drive, Elk Grove Village, IL 60007.

Date Revoked: April 9, 2000.

Reason: Failed to maintain a valid bond.

License Number: 14368N.

Name: B.W.I. Shippers and Movers Ltd.

Address: 654 Flatbush Avenue, Brooklyn, NY 11225.

Date Revoked: April 26, 2000.

Reason: Failed to maintain a valid bond.

License Number: 3881.

Name: Czop, Inc.

Address: 13301 Biscayne Blvd., Suite 102, North Miami, FL 33181.

Date Revoked: April 21, 2000.

Reason: Failed to maintain a valid bond.

License Number: 4102.

Name: Desert Net, Inc.

Address: 410 East Pratt Street, Suite 1623, Baltimore, MD 21202.

Date Revoked: April 15, 2000.

Reason: Failed to maintain a valid bond.

License Number: 1538.

Name: Division M, Inc.

Address: 1352 E. Industrial Drive, Itasca, IL 60143.

Date Revoked: April 29, 2000.

Reason: Failed to maintain a valid bond.

License Number: 13315N.

Name: Eagle International Shipping, Inc.

Address: 5531 N.W. 72nd Avenue, Miami, FL 33166.

Date Revoked: May 20, 2000.

Reason: Failed to maintain a valid bond.

License Number: 3267.

Name: Global Transport Services, Inc.

Address: 15710 JFK Blvd., Suite 380, Houston, TX 77032.

Date Revoked: April 12, 2000.

Reason: Failed to maintain a valid bond.

License Number: 8504N.

Name: Hyun Dae Trucking Co., Inc.

Address: 3022 S. Western Avenue, Los Angeles, CA 90018.

Date Revoked: April 20, 2000.

Reason: Failed to maintain a valid bond.

License Number: 4653.

Name: Indus Shipping Company Ltd.

Address: 27 Park Place, Suite 200, New York, NY 10007.

Date Revoked: April 13, 2000.

Reason: Failed to maintain a valid bond.

License Number: 1417-R.

Name: Interconex Transport International, Inc.

Address: 50 Main Street, 11th Floor, White Plains, NY 10606.

Date Revoked: May 27, 2000.

Reason: Failed to maintain a valid bond.

License Number: 206.

Name: Marine Forwarding Company, Incorporated

Address: 17 Battery Place, New York, NY 10004.

Date Revoked: April 27, 2000.

Reason: Failed to maintain a valid bond.

License Number: 4321.

Name: Matrix Worldwide, Inc.

Address: 154-09 146th Avenue, Suite 302, Jamaica, NY 11434.

Date Revoked: April 17, 2000.

Reason: Failed to maintain a valid bond.

License Number: 11333N.

Name: Multi-Link Services

Address: 9009 N. Loop East, Suite 270, Houston, TX 77029.

Date Revoked: May 17, 2000.

Reason: Failed to maintain a valid bond.

License Number: 13936N.

Name: Ocean Spanners, Inc.

Address: 452 Hudson Terrace, Englewood Cliffs, NJ 07632.

Date Revoked: April 9, 2000.

Reason: Failed to maintain a valid bond.

License Number: 4643.

Name: Overseas Freight Forwarding & Consolidation, Corp.

Address: 4 Lagoon Place, San Rafael, CA 94903.

Date Revoked: April 14, 2000.

Reason: Failed to maintain a valid bond.

License Number: 1929-R.

Name: Perez International Forwarders, Inc.

Address: 4115 S.W. 98th Avenue, Miami, FL 33165.

Date Revoked: April 14, 2000.

Reason: Failed to maintain a valid bond.

License Number: 13589N.

Name: Promate Freight Service, Inc.

Address: 550 W. Patrice Place, Unit A, Gardena, CA 90248.

Date Revoked: May 13, 2000.

Reason: Failed to maintain a valid bond.

License Number: 11611N.

Name: Skyway Freight Systems, Inc.

Address: 225 Westridge Drive, Watsonville, CA 95076.

Date Revoked: June 1, 2000.

Reason: Failed to maintain a valid bond.

License Number: 11269N.

Name: Navajo Shipping Agency, Inc. d/b/a Africa Mid-East Line d/b/a The Nautilus Line d/b/a The Gold Line of Latin America

Address: 9050 Pines Blvd., Suite 460 Pembroke Pines, FL 33024.

Date Revoked: June 7, 2000.

Reason: Failed to maintain a valid bond.

Sandra L. Kusumoto,
Director, Bureau of Consumer Complaints and Licensing.

[FR Doc. 00-18266 Filed 7-18-00; 8:45 am]

BILLING CODE 6730-01-P